FEDERAL COMMUNICATIONS COMMISSION

Radio Broadcasting Services; AM or FM Proposals To Change the Community of License

AGENCY: Federal Communications Commission.

ACTION: Notice.

SUMMARY: The following applicants filed AM or FM proposals to change the community of license: Always Mountain Time, LLC, Station KIDN-FM, Facility ID 57339, BPH-20140311ACI, From Burns, CO, To Hayden, CO; McNeese State University, Station KBYS, Facility ID 17277, BPED-20150226ABQ, From Moss Bluff, LA, To Lake Charles, LA; Radio Hatteras, Inc., Station WHDX, Facility ID 16416, BPED-20150223ABD, From Buxton, NC, To Waves, NC; Riverfront Broadcasting, LLC, Station KZKK, Facility ID 15267, BPH-20150213ADF, From Huron, SD, To Parkston, SD; Saver Media, Inc., Station KQTC, Facility Id 19041, BPH-20150204AAG, From Eldorado, TX, To Christoval, TX.

DATES: The agency must receive comments on or before June 1, 2015.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2015-07563 Filed 4-1-15; 8:45 am]

BILLING CODE 6712-01-P